DEPARTMENT OF COMMERCE

National Oceanic and Atmospheric Administration

Evaluation of State Coastal Management Programs

AGENCY: National Oceanic and Atmospheric Administration (NOAA), Office for Coastal Management, National Ocean Service, Commerce.

ACTION: Notice of intent to evaluate.

SUMMARY: The NOAA Office for Coastal Management announces its intent to evaluate the performance of the Puerto Rico Coastal Zone Management Program.

Coastal Zone Management Program evaluations are conducted pursuant to section 312 of the Coastal Zone Management Act of 1972, as amended (CZMA) and regulations at 15 CFR part 923, subpart L. The CZMA requires continuing review of the performance of states and territories with respect to coastal program implementation. Evaluation of a Coastal Management Program requires findings concerning the extent to which a state or territory has met the national objectives, adhered to its Coastal Management Program document approved by the Secretary of Commerce, and adhered to the terms of financial assistance awards funded under the CZMA.

The evaluations will include a public meeting, consideration of written public comments and consultations with interested Federal, state, and local agencies and members of the public. When the evaluation is completed, the Office for Coastal Management will place a notice in the Federal Register announcing the availability of the Final Evaluation Findings. Notice is hereby given of the date, local time, and location of the public meeting.

Date and Time: The Puerto Rico Coastal Zone Management Program public meeting will be held on Wednesday, May 13, 2015 at 5:00 p.m. local time at the Environmental Agencies Building, PR-8838 Km. 6.3, El Cinco, Rio Piedras, San Juan, Puerto Rico.

ADDRESSES: Copies of the most recent performance report, as well as the Office for Coastal Management evaluation notification letter to the territory, are available upon request. Written comments from interested parties are encouraged and will be accepted until May 22, 2015. Please direct written comments to Carrie Hall, Evaluator, Planning and Performance Measurement Program, Office for Coastal Management, NOS/NOAA, 1305 East-West Highway, 11th Floor, N/OCM1, Silver Spring, Maryland 20910, or Carrie.Hall@noaa.gov.

FOR FURTHER INFORMATION CONTACT: Carrie Hall, Evaluator, Planning and Performance Measurement Program, Office for Coastal Management, NOS/NOAA, 1305 East-West Highway, 11th Floor, N/OCM1, Silver Spring, Maryland 20910, or Carrie.Hall@noaa.gov.

Federal Domestic Assistance Catalog 11.419, Coastal Zone Management Program Administration

Dated: April 8, 2015.
Christopher C. Cartwright,
Associate Assistant Administrator for Management and CFO/CAO, Ocean Services and Coastal Zone Management, National Oceanic and Atmospheric Administration.

[FR Doc. 2015-08719 Filed 4-15-15; 8:45 am]

BILLING CODE 3510-08-P